DEPARTMENT OF THE TREASURY

Submission for OMB Review; Comment Request

August 28, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 5, 2007 to be assured of consideration.

Bureau of Engraving and Printing (BEP)

OMB Number: 1520-XXXX.

Type of Review: New.

Title: Redesigned Currency, Benchmark Survey.

Description: The Bureau of Engraving and Printing requests approval to conduct a series of information collection activities with the public in support of its public education program regarding the introduction of redesigned currency. These collections will include: A survey used to establish baseline measures of awareness of currency changes, confidence in the currency and authentication behavior, and subsequent surveys to evaluate changes in these measures; a survey to evaluate potential messages designed to encourage the public to examine and learn currency security features; a survey to evaluate potential taglines that will help call attention to new security features while maintaining confidence in U.S. currency; and, a survey to test draft materials to be developed in support of the program. The collection will also include in-depth interviews with bank tellers and others who frequently conduct cash transactions as part of their job, to identify special needs and tools for their use.

Respondents: Individuals or households.

Estimated Total Burden Hours: 800 hours.

Clearance Officer: Pamela V. Grayson, (202) 874-2212, Bureau of Engraving and Printing, 14th & C Street, SW., Washington, DC 20228.

OMB Reviewer: Alexander T. Hunt, (202) 395-7316, Office of Management and Budget, Room 10235, New Executive Office Building, Washington, DC 20503.

Robert Dahl,
Treasury PRA Clearance Officer.

[FR Doc. E7-17467 Filed 9-4-07; 8:45 am]

BILLING CODE 4840-01-P